ENVIRONMENTAL PROTECTION AGENCY

40 CFR Part 52

[EPA-R09-OAR-2024-0005; 11919-03-R9]

Partial Approval and Disapproval of Air Quality Implementation Plans; Arizona; Regional Haze State Implementation Plan for the Second Implementation Period and Prong 4 (Visibility) for the 2015 Ozone and 2012 Particulate Matter Standards; Extension of Comment Period

AGENCY: Environmental Protection Agency (EPA).

ACTION: Proposed rule; extension of comment period.

SUMMARY: The Environmental Protection Agency (EPA) is extending the comment period for a proposed rule published May 31, 2024. The current comment period for the proposed rule was set to end on July 1, 2024. In response to requests from commenters, the EPA is extending the comment period for the proposed action to July 15, 2024.

DATES: The comment period for the proposed rule published on May 31, 2024, at 89 FR 47398 is extended. Comments must be received on or before July 15, 2024.

ADDRESSES: Submit your comments, identified by Docket ID No. EPA-R09-OAR-2024-0005 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with a disability who needs a reasonable accommodation at no cost to you, please contact the person identified in the FOR FURTHER INFORMATION CONTACT section.

FOR FURTHER INFORMATION CONTACT: Khoi Nguyen, Geographic Strategies & Modeling Section (AIR-2-2), Planning & Analysis Branch, Air and Radiation Division, EPA Region IX, 75 Hawthorne Street, San Francisco, CA 94105, (415) 947-4120, or by email at nguyen.khoi@epa.gov.

SUPPLEMENTARY INFORMATION: On May 31, 2024 (89 FR 47398), the EPA published the proposed rule “Partial Approval and Disapproval of Air Quality Implementation Plans; Arizona; Regional Haze State Implementation Plan for the Second Implementation Period and Prong 4 (Visibility) for the 2015 Ozone and 2012 Particulate Matter Standards” in the Federal Register. The original deadline to submit comments was July 1, 2024. This action extends the comment period for 14 days in response to requests from commenters. Written comments must now be received by July 15, 2024.

Dated: June 17, 2024.
Matthew Lakin,
Director, Air and Radiation Division, Region IX.

[FR Doc. 2024-13901 Filed 6-25-24; 8:45 am]

BILLING CODE 6560-50-P